DEPARTMENT OF LABOR

Employment and Training Administration

[TA-W-53,993]

Newell Rubbermaid, Inc., Wooster, OH; Notice of Affirmative Determination Regarding Application for Reconsideration

By application of April 2, 2004, the United Steelworkers of America, Local 302L, requested administrative reconsideration of the Department of Labor's Notice of Negative Determination Regarding Eligibility to Apply for Worker Adjustment Assistance, applicable to workers of the subject firm. The Department's determination was signed on March 4, 2004, and the Notice was published in the Federal Register on April 6, 2004 (69 FR 18109).

The Department reviewed the request for reconsideration and has determined that further investigation is appropriate given that the customer survey may be erroneous.

Conclusion

After careful review of the application, I conclude that the claim is of sufficient weight to justify reconsideration of the Department of Labor's prior decision. The application is, therefore, granted.

Signed at Washington, DC, this 3rd day of May, 2004.
Elliott S. Kushner,
Certifying Officer, Division of Trade Adjustment Assistance.

[FR Doc. 04-10861 Filed 5-12-04; 8:45 am]

BILLING CODE 4510-30-P